INTERNATIONAL TRADE COMMISSION

Agency Information Collection Activities: Proposed Collection; Comment Request; Generic Clearance for the Collection of Qualitative Feedback on Agency Service Delivery

AGENCY: U.S. International Trade Commission.

ACTION: 30-Day notice of submission of information collection approval from the Office of Management and Budget and request for comments.

SUMMARY: As part of a Federal Government-wide effort to streamline the process to seek feedback from the public on service delivery, the U.S. International Trade Commission has submitted a Generic Information Collection Request (Generic ICR): “Generic Clearance for the Collection of Qualitative Feedback on Agency Service Delivery” to OMB for approval under the Paperwork Reduction Act (PRA) (44 U.S.C. 3501 et seq.).

DATES: Comments must be submitted August 8, 2011.

ADDRESSES: Written comments should be directed to the Office of Management and Budget, Office of Information and Regulatory Affairs, Room 10102 (Docket Library), Washington, DC 20503, Attention: Docket Librarian. Copies of any comments should be provided to Andrew Martin, Chief Information Officer, U.S. International Trade Commission, 500 E Street, SW., Washington, DC 20436, who is the Commission's designated Senior Official under the Paperwork Reduction Act. Persons with mobility impairments who will need special assistance in gaining access to the Commission should contact the Secretary at 202-205-2000. Hearing impaired individuals are advised that information on this matter can be obtained by contacting our TDD terminal (telephone no. 202-205-1810). Also, general information about the Commission can be obtained from its Internet server (http://www.usitc.gov).

FOR FURTHER INFORMATION CONTACT: To request additional information, please contact Jeremy Wise at 202-205-3190.

SUPPLEMENTARY INFORMATION: Title: Generic Clearance for the Collection of Qualitative Feedback on Agency Service Delivery.

Abstract: The information collection activity will garner qualitative customer and stakeholder feedback in an efficient, timely manner, in accordance with the Administration's commitment to improving service delivery. Qualitative feedback is meant to provide useful information and insights on perceptions and opinions, but does not yield quantitative data that can be generalized to the overall population, such as that which results from statistical surveys. This feedback will provide insights into customer or stakeholder perceptions, experiences, and expectations; provide an early warning of issues with service; or focus attention on areas where communication, training, or changes in operations might improve delivery of products or services. These collections will allow for ongoing, collaborative, and actionable communications between the Commission and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

The U.S. International Trade Commission received no comments in response to the 60-day notice published in the Federal Register of December 22, 2010 (75 FR 80542).

Below we provide the U.S. International Trade Commission's projected average estimates for the next three years: ¹

¹ The 60-day notice included the following estimate of the aggregate burden hours for this generic clearance Federal-wide:

Average Expected Annual Number of Activities: 25,000.

Average Number of Respondents per Activity: 200.

Annual Responses: 5,000,000.

Frequency of Response: Once per Request.

Average Minutes per Response: 30.

Burden Hours: 2,500,000.

Current Actions: New collection of information.

Type of Review: New Collection.

Affected Public: Individuals and Households; Businesses and Organizations; State, Local, or Tribal Government.

Average Expected Annual Number of Activities: 3.

Average Annual Respondents: 595.

Average Annual Responses: 595.

Frequency of Response: Once per Request.

Average Minutes per Response: 46.

Average Annual Burden Hours: 457.

An agency may not conduct or sponsor, and a person is not required to respond to, a collection of information unless it displays a currently valid Office of Management and Budget control number.

By order of the Commission.
Issued: June 30, 2011.
James Holbein,
Secretary to the Commission.

[FR Doc. 2011-16905 Filed 7-6-11; 8:45 am]

BILLING CODE 7020-02-P